Proclamation 10566 of April 28, 2023

National Hurricane Preparedness Week, 2023

By the President of the United States of America

A Proclamation

Powerful hurricanes, typhoons, and tropical storms can devastate our communities, threaten the lives of our families, and damage everything we have worked so hard to build. During National Hurricane Preparedness Week, we raise awareness about the hazards posed by hurricanes and share resources to help Americans stay safe and protect their property before these storms make landfall. We also celebrate the remarkable first responders and community members who help rescue, recover, and rebuild in the aftermath of these natural disasters.

During last year's hurricane season, especially in Florida and Puerto Rico, we witnessed the overwhelming damage these storms so often leave in their wake. Families lost their homes. Business owners lost their livelihoods. Survivors were left with unimaginable grief. As the climate crisis intensifies, the impacts of storm surges, flooding, mudslides, and heavy rainfall will only increase, and communities that lack the resources to respond and recover will be hit hardest.

That is one reason why I signed the historic Bipartisan Infrastructure Law, which will keep Americans safer from natural disasters by building stronger roads and bridges, improving levees and floodwalls, and making our power grid more resilient. This law includes over $50 billion to shore up our defenses against flooding and other weather and climate disasters. It provides States with billions of dollars to prepare evacuation routes and improve other at-risk coastal infrastructure. It also invests in community-wide planning to ensure that those most impacted by extreme weather have a voice in preparing for the future.

Our Inflation Reduction Act takes these efforts a step further, making the largest investment in our Nation's history to combat climate change. With historic funding for green manufacturing, clean energy development, and climate-smart agriculture, this law puts us on a path to cut America's greenhouse gas emissions in half by 2030. It gives families tax credits to make their homes more energy efficient, saving money and helping ensure that the power stays on when the grid goes down. And it provides the National Oceanic and Atmospheric Administration with billions of dollars to improve weather forecasting and invest in resilience projects in coastal communities that will help them more easily recover from extreme weather events.

These actions build on our efforts to ensure communities consider climate resilience as they plan for the future—from modernizing building codes so that structures are more protective and less pollutive to harnessing the power of ecosystems like reefs, beaches, and wetlands, which keep us safer during storms.

These bold investments will benefit our communities for years to come. But as we enter another hurricane season, every American can do their part to plan, prepare, and protect their families. Check your insurance policies to ensure they are up to date. Put your important documents in a location where they are easy to find. Know your local evacuation route, and have an emergency kit ready to go. Help increase awareness about the risks among your friends, family, and neighbors. And when storms approach, pay attention to storm surge and hurricane warnings, and follow the guidance from your local authorities, including guidance about when it is safe to return to affected areas.

As we prepare, we must also remember and honor the courage, kindness, and resilience of our fellow Americans. As President, I have issued dozens of disaster declarations to support the American people wherever they live, and every time, first responders have worked around the clock to save lives and provide food and shelter. Neighbors, community organizations, and faith groups have opened their doors to people in need. Workers have rebuilt homes, schools, and businesses to make them more resilient to future disasters. Scientists have helped communities adapt and remain safe. Families, having often lost everything, have found the strength to move forward. Time and again, in America's most trying moments, we are reminded that we are a great Nation because we are a good people.

This National Hurricane Preparedness Week, let us each recommit to doing our part to help safeguard our families, our communities, and our Nation from these devastating natural disasters.

NOW, THEREFORE, I, JOSEPH R. BIDEN JR., President of the United States of America, by virtue of the authority vested in me by the Constitution and the laws of the United States, do hereby proclaim April 30 through May 6, 2023, as National Hurricane Preparedness Week. I urge all Americans to help build our climate resilient Nation so that individuals, organizations, and community leaders are empowered to take action to make their communities more resilient to extreme weather and climate change. I call on our Federal, State, Tribal, territorial, and local government agencies to share information that will protect lives and property.

IN WITNESS WHEREOF, I have hereunto set my hand this twenty-eighth day of April, in the year of our Lord two thousand twenty-three, and of the Independence of the United States of America the two hundred and forty-seventh.

[FR Doc. 2023-09538

Filed 5-2-23; 8:45 am]

Billing code 3395-F3-P